ENVIRONMENTAL PROTECTION AGENCY

[0PPT-2003-0052; FRL-7323-8]

TSCA Confidential Business Information; Revised Security Manual;Notice of Availability

AGENCY: Environmental Protection Agency (EPA).

ACTION: Notice of availability.

SUMMARY: EPA has adopted revisions to its procedures for handling confidential business information (CBI) under the Toxic Substances Control Act (TSCA). These revised procedures are set forth in a new TSCA CBI Protection Manual for Federal employees and contractors, the availability of which is announced by this notice.

DATES: The requirements of the revised TSCA CBI Protection Manual were effective January 28, 2004.

ADDRESSES: The revised TSCA CBI Protection Manual is available for the public to view at the EPA Docket Center (Room B102), EPA West Building, 1301 Constitution Avenue, NW, Washington, DC 20460

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@EPA.gov.

For technical information contact: Harry Lewis, Information Management Division (7407M), Office of Pollution Prevention and Toxics, Environmental Protection Agency, 1200 Pennsylvania Ave., NW., Washington, DC 20460-0001; telephone number: (202) 564-8642; e-mail address: lewis.harry@epa.gov.

SUPPLEMENTARY INFORMATION:

I. General Information

A. Does this Action Apply to Me?

This action is directed to the public in general. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established an official public docket for this action under docket identification (ID) number OPPT-2003-0052. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the Federal Register listings at http://www.epa.gov/fedrgstr/. The revised TSCA CBI Protection Manual is available for the public to view at the EPA Docket Center (Room B102), EPA West Building, 1301 Constitution Avenue, NW, Washington, DC 20460

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. What Action is the Agency Taking?

EPA is issuing this notice to announce the availability of the revised TSCA security manual for Federal employees and contractors. The revised TSCA CBI Protection Manual supersedes the previous edition of the TSCA Confidential Business Information Security Manual (April 1995). The revised manual includes changes and refinements in existing procedures developed since the publication of the previous manual. Several changes to the manual have been made as a result of EPA's continuing efforts to improve the procedures for handling TSCA CBI. None of these changes reduce the overall level of protection afforded TSCA CBI. Changes and clarifications include the following examples: (1) Updated and detailed rules for working with TSCA CBI on computers, including use of the EPA TSCA CBI secure local area network; (2) clarification that, notwithstanding supplemental administrative access requirements, legal access to TSCA CBI is conferred to Federal employees with a job-related need under Section 14 of TSCA; (3) clause in the Preface providing the Director of the Information Management Division, OPPT, with the authority to grant exceptions to prescribed procedures in the Manual in justified “extraordinary circumstances;” (4) expansion of the working papers exemption to TSCA CBI Document Control Officer (DCO) recordkeeping from only allowing an author/creator exclusive physical possession of their personal papers, to allowing them to be under the author/creator's control while in the temporary physical possession of another TSCA CBI authorized person; (5) clarifying the authority of the OPPT DCO to delegate TSCA CBI mailouts and receipts to other DCOs at EPA Headquarters; (6) detailed guidelines incorporating mandatory criteria for working with TSCA CBI in a personal residence; (7) change from annual audits required for contractor DCOs, to contractor and Federal baseline comprehensive audits followed by quadrennial comprehensive audits and annual transaction audits; and (8) for new-access contractor employees, replacement of Minimum Background Investigation (MBI) with National Agency Check and Inquiry (NACI) investigation. The Agency's policy on revisions to TSCA CBI security manuals was announced in the Federal Register of November 14, 1985 (50 FR 47108). EPA is publishing this notice in accordance with the requirements of that policy. EPA is printing and distributing copies of the revised manual to affected EPA offices. The provisions of the revised manual were effective January 28, 2004.

List of Subjects

Environmental protection, Confidential business information.

Dated: April 1, 2004.
Charlies M. Auer,
Director, Office of Pollution Prevention and Toxics.

[FR Doc. 04-8459 Filed 4-14-04; 8:45 am]

BILLING CODE 6560-50-S